DEPARTMENT OF TRANSPORTATION

Federal Highway Administration

Environmental Impact Statement; Manatee and Hillsborough Counties, FL

AGENCY: Federal Highway Administration (FHWA), DOT.

ACTION: Notice of intent.

SUMMARY: The FHWA is issuing this notice to advise the public that an Environmental Impact Statement (EIS) will be prepared for a proposed highway project in Manatee and Hillsborough Counties, Florida.

FOR FURTHER INFORMATION CONTACT: Ms. Linda Anderson, Environmental Specialist, Federal Highway Administration, 545 John Knox Road, Tallahassee, Florida 32301, Telephone: (850) 942-9650 extension 3053.

SUPPLEMENTARY INFORMATION: The FHWA, in cooperation with the Florida Department of Transportation (FDOT), will prepare an EIS for a proposal to improve access between Port Manatee and Interstate 75 (I-75) in Manatee and Hillsborough Counties. The study area for the proposed project generally extends from south of I-275 to south of State Road 674 and from the Tampa Bay coast line to east of I-75, in northern Manatee County or southern Hillsborough County. The study corridor is approximately 7 miles long. An enhanced roadway connection from I-75 to Port Manatee would serve as a crucial freight route, improve the overall efficiency of the existing highway network and relieve congestion at the gateway to the port.

Alternatives under consideration include: (1) Taking no action; (2) upgrades to existing roadways; and (3) alternatives on a new east-west alignment. A potential new roadway alignment would provide access to Port Manatee at U.S. 41 and connect to a new or modified interchange with I-75.

Coordination with appropriate Federal, State, and local agencies, and with private organizations and citizens who have expressed interest in this proposal has been undertaken and will continue. A series of public meetings and a public hearing will be held in Manatee County between September 2008 and December 2010. Public notice will be given of the time and place of the meetings and hearing. Prior to the public hearing, the Draft EIS will be made available for public and agency review and comment. There are no plans to hold a formal scoping meeting after this notice of intent to prepare an EIS. The information gained through agency meetings, the Florida Efficient Transportation Decision Making (ETDM) process, and public involvement will be used for scoping. As part of the scoping process, a series of meetings were held between September 23-30, 2008 to provide affected government agencies, interested groups, and the public with an opportunity to review and comment on the draft purpose and need statement developed for the project. A subsequent series of meetings is anticipated for summer 2009 to provide agencies and the public an opportunity for input into the alternatives analysis and development. The ETDM process is approved by FHWA as meeting the streamlining requirements of Section 6002 of the Safe, Accountable, Flexible, Efficient Transportation Equity Act: A Legacy for Users (SAFETEA-LU).

To ensure that the full range of issues related to the proposed action is addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: February 26, 2009.
Linda Anderson,
Environmental Protection Specialist.

[FR Doc. E9-4736 Filed 3-4-09; 8:45 am]

BILLING CODE 4910-22-P